DEPARTMENT OF THE INTERIOR

National Park Service

[NPS-WASO-NRNHL-DTS#-30243; PPWOCRADI0, PCU00RP14.R50000]

National Register of Historic Places; Notification of Pending Nominations and Related Actions

AGENCY: National Park Service, Interior.

ACTION: Notice.

SUMMARY: The National Park Service is soliciting electronic comments on the significance of properties nominated before April 25, 2020, for listing or related actions in the National Register of Historic Places.

DATES: Comments should be submitted electronically by May 28, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION:

The properties listed in this notice are being considered for listing or related actions in the National Register of Historic Places. Nominations for their consideration were received by the National Park Service before April 25, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CONNECTICUT

Hartford County

Neiditz Building, 111 Pearl St., Hartford, SG100005238

FLORIDA

Escambia County

Boy Scout Building, (Florida's New Deal Resources MPS), 1601 East La Rua St., Pensacola, MP100005239

Gadsden County

Chattahoochee Historic District, North Bolivar and Decatur Sts., East Washington St., and South McDonald Ave., East Chattahoochee St., Chattahoochee, SG100005240

Highlands County

Highway Park Cemetery, 202, 204, and 206 Crestmore Dr., Lake Placid vicinity, SG100005241

Holmes County

Downtown Bonifay Historic District, Nebraska Ave; Oklahoma Ave.; Evans Ave.; Martin St., and Etheridge St., Bonifay, SG100005242

Volusia County

Green Mound, 4400 South Peninsula Dr., Ponce Inlet, SG100005243

GEORGIA

Fulton County

First Presbyterian Church of Atlanta, 1328 Peachtree St. NE, Atlanta, SG100005252

Manuel's Tavern, 602 North Highland Ave. NE, Atlanta, SG100005253

Westview Cemetery, 1680 Ralph David Abernathy Blvd. SW, Atlanta, SG100005254

MINNESOTA

Blue Earth County

Old Main, Mankato State Teachers College (Boundary Decrease), 301 South Fifth St., Mankato, BC100005244

Hennepin County

Laurel Apartments, 15 North Fifteenth St., Minneapolis, SG100005245

Zinsmaster Baking Company Building, 2900 Park Ave., Minneapolis, SG100005246

Pennington County

Thief River Falls Auditorium and Municipal Building, 123 Main Ave. North, Thief River Falls, SG100005247

Ramsey County

Farmers Union Grain Terminal Association Headquarters, 1667 Snelling Ave. North, Falcon Heights, SG100005248

St. Louis County

Olson, Sigurd F., Writing Shack, 106 East Wilson St., Ely, SG100005249

Winona County

Winona Commercial Historic District (Boundary Increase), 102 Walnut St. and 159 East Second St., and alley behind buildings to the south, Winona, BC100005250

NORTH DAKOTA

Grand Forks County

Ben Franklin Elementary School, (Mid-Century Schools in Grand Forks, North Dakota, 1949-1965 MPS), 1016 South 20th St., Grand Forks, MP100005260

Lewis and Clark Elementary School, (Mid-Century Schools in Grand Forks, North Dakota, 1949-1965 MPS), 1100 13th Ave. South, Grand Forks, MP100005261

Valley Junior High School, (Mid-Century Schools in Grand Forks, North Dakota, 1949-1965 MPS), 2100 5th Ave. North, Grand Forks, MP100005262

Viking Elementary School, (Mid-Century Schools in Grand Forks, North Dakota, 1949-1965 MPS), 809 22nd Ave. South, Grand Forks, MP100005263

West Elementary School, (Mid-Century Schools in Grand Forks, North Dakota, 1949-1965 MPS), 615 North 25th St., Grand Forks, MP100005264

Wilder Elementary School, (Mid-Century Schools in Grand Forks, North Dakota, 1949-1965 MPS), 1009 North 3rd St., Grand Forks, MP100005265

WISCONSIN

Milwaukee County

20th Street School, 2442 North 20th St., Milwaukee, SG100005256

Additional documentation has been received for the following resource:

IOWA

Scott County

Ambrose Hall (Additional Documentation), 518 West Locust St., Davenport, AD77000553

Authority: Section 60.13 of 36 CFR part 60

Dated: April 27, 2020.
Julie H. Ernstein,
Supervisory Archeologist, National Register of Historic Places/National Historic Landmarks Program.

[FR Doc. 2020-10274 Filed 5-12-20; 8:45 am]

BILLING CODE 4312-52-P